COMMISSION ON CIVIL RIGHTS

Meeting Notice

AGENCY: Commission on Civil Rights.

ACTION: Notice of Commission public briefing, Civil Rights Implications of Disaster Relief: Hurricane María in Puerto Rico.

DATES: Friday, December 10, 2021, 9:00 a.m. Atlantic Standard Time.

ADDRESSES: InterAmerican University of Puerto Rico Law School, 170 C. Federico Costas, San Juan, 00918, Puerto Rico and virtually via Commission Youtube at https://www.youtube.com/user/USCCR/videos.

FOR FURTHER INFORMATION CONTACT: Angelia Rorison: 202-376-7700; publicaffairs@usccr.gov.

SUPPLEMENTARY INFORMATION: On Friday, December 10, 2021, at 9 a.m. Atlantic Standard Time, the U.S. Commission on Civil Rights will hold a briefing on the civil rights implications of the federal response and impact of Hurricane María in Puerto Rico. At this public briefing, the Commissioners will hear from subject matter experts such as government officials, volunteer organizations, non-governmental advocates, and academics. The Commission will accept written materials in English and Spanish from the public for consideration as we prepare our report; submit to mariabriefing@usccr.gov no later than January 10, 2022.

This briefing is open to the public and will be held at the InterAmerican University of Puerto Rico Law School in San Juan, Puerto Rico and will be available to the public virtually via livestream on the Commission's YouTube Page at https://www.youtube.com/user/USCCR/videos. (Streaming information subject to change.) Written testimony and other materials can be found on the Commission's website https://www.usccr.gov/meetings/2021/12-10-civil-rights-implications-disaster-relief-hurricane-maria.

Computer assisted real-time transcription (CART) will be provided. The web link to access CART (in English) on Friday, December 10, 2021, is https://www.streamtext.net/player?event=USCCR. Please note that CART is text-only translation that occurs in real time during the meeting and is not an exact transcript.

To request additional accommodations, persons with disabilities should email access@usccr.gov by Monday, January 10, 2022, indicating “accommodations” in the subject line.

Agenda for Civil Rights Implications of Disaster Relief: Hurricane María in Puerto Rico

9:00 a.m.-6:00 p.m. All times Atlantic Standard Time

I. Introductory Remarks by Chair Norma V. Cantú: 9:00 a.m.-9:10 a.m.

II. Panel 1: 9:10 a.m.-11:00 a.m.

III. Break: 11:00 a.m.-11:10 a.m.

IV. Panel 2: 11:10 a.m.-12:40 p.m.

V. Lunch Break: 12:40 p.m.-1:40 p.m.

VI. Public Comment Period: 1:40 p.m.-3:40 p.m.

VII. Break: 3:40 p.m.-3:50 p.m.

VIII. Public Comment Period: 3:50 p.m.-5:50 p.m.

IX. Closing Remarks by Chair Norma V. Cantú: 5:55 p.m.-6:00 p.m.

X. Adjourn Meeting.

** Public Comments will also be accepted through written testimony

* Schedule is subject to change.

Call for Public Comments

In addition to the testimony collected on Friday, December 10, 2021, via virtual briefing, the Commission welcomes the submission of material for consideration as we prepare our report. Please submit such information to mariabriefing@usccr.gov no later than January 10, 2022, or by mail to OCRE/Public Comments, ATTN: María Briefing, U.S. Commission on Civil Rights, 1331 Pennsylvania Ave. NW, Suite 1150, Washington, DC 20425. The Commission encourages the use of email to provide public comments due to the current COVID-19 pandemic.

Dated: November 30, 2021.
Angelia Rorison,
Media and Communications Director, U.S. Commission on Civil Rights.

[FR Doc. 2021-26396 Filed 12-3-21; 8:45 am]

BILLING CODE 6335-01-P